SMALL BUSINESS ADMINISTRATION

Webinar About Advanced Defense Technologies RFP

AGENCY: U.S. Small Business Administration (SBA).

ACTION: Notice of open webinar meeting to discuss Advanced Defense Technologies (ADT) Request for Proposals (RFP) No. SBAHQ-10-R-0022.

SUMMARY: The SBA is issuing this notice to announce the date of a webinar it is hosting to answer questions from potential Offerors about the Advanced Defense Technologies RFP. Please visit http://www.sba.gov/clusters/index.html for more information. The RFP may be found on http://www.fedbizopps.gov.

LOGISTICAL INFORMATION: The webinar will be held on Monday, July 19, 2010. For details, please visit http://www.sba.gov/clusters/index.html.

SUPPLEMENTARY INFORMATION: The Small Business Administration has issued a Request for Proposals (RFP) to solicit proposals from existing regional innovation clusters specializing in defense technologies to provide counseling, training, mentoring, matchmaking and other services to support small business development and growth in cluster areas and industries. SBA intends to make awards to multiple regional innovation clusters that can help meet critical Department of Defense technology needs. SBA intends to award fixed-price contracts with a one-year base term with an option for an additional year. Proposed annual costs should not exceed $600,000, and all awarded contracts will be subject to applicable contract cost principles and procedures (Federal Acquisition Regulation Part 31). SBA will select regional innovation clusters in communities across the country with established cluster focus areas that meet its specified criteria. Some areas of high-growth potential include, but are not limited to, advanced robotics, advanced defense systems, power/energy innovations, cyber-security and applied lightweight materials. Offerors should demonstrate that they have the partnerships, technical capacity, and local assets to support their existing regional innovation clusters, as well as experience fostering small business development and growth opportunities. Experience working with the Department of Defense Small Business Innovation Research and defense technology development programs is preferred. Offerors with Defense Security Service Facility Clearances who can hold security clearances and discuss classified material on site are preferred but not required. The RFP was posted on http://www.fedbizopps.gov on July 8, 2010. All responsible sources may submit an offer which will be considered by the agency. Offerors need to be registered in the Central Contractor Registration database, which can be found at http://www.ccr.gov, and have a DUNS Number established by Dun & Bradstreet (see https://fedgov.dnb.com).

Meaghan Burdick,
Deputy Chief of Staff.

[FR Doc. 2010-17071 Filed 7-13-10; 8:45 am]

BILLING CODE 8025-01-P